DEPARTMENT OF COMMERCE

International Trade Administration

[A-122-861]

Certain Uncoated Groundwood Paper From Canada: Initiation of Less-Than-Fair-Value Investigation

AGENCY: Enforcement and Compliance, International Trade Administration, Department of Commerce.

DATES: Applicable September 1, 2017.

FOR FURTHER INFORMATION CONTACT: Maria Tatarska at (202) 482-1562, AD/CVD Operations, Enforcement and Compliance, International Trade Administration, U.S. Department of Commerce, 1401 Constitution Avenue NW., Washington, DC 20230.

SUPPLEMENTARY INFORMATION:

The Petition

On August 9, 2017, the U.S. Department of Commerce (the Department) received an antidumping duty (AD) Petition concerning imports of certain uncoated groundwood paper (UGW paper) from Canada, filed in proper form on behalf of North Pacific Paper Company (NORPAC, the petitioner).¹ The AD Petition was accompanied by a countervailing duty (CVD) Petition concerning imports of UGW paper from Canada. The petitioner is a domestic producer of UGW paper.²

¹ See Letter from the petitioner “Certain Uncoated Groundwood Paper from Canada—Petitions for the Imposition of Antidumping and Countervailing Duties,” dated August 9, 2017 (the Petition).

² See Volume I of the Petition, at 1.

On August 11, 2017, the Department requested supplemental information pertaining to certain areas of the Petition.³ The petitioner filed responses to these requests on August 15, 2017.⁴ On August 17, 2017, the Department contacted the petitioner regarding the proposed scope of the investigations.⁵ The petitioner filed revised scope language on August 21, 2017.⁶ As discussed below, on August 10, 2017, the Department issued polling questionnaires to all known U.S. producers of UGW paper. The Department received responses from all recipients of the polling questionnaires.

³ See Letter to the petitioner from the Department, “Petitions for the Imposition of Antidumping and Countervailing Duties on Imports of Certain Uncoated Groundwood Paper from Canada: Supplemental Questions,” dated August 11, 2017 (General Issues Supplemental Questionnaire); see also Letter from the Department, “Petition for the Imposition of Antidumping Duties on Imports of Certain Uncoated Groundwood Paper from Canada: Supplemental Questions,” dated August 11, 2017 (AD Supplemental Questionnaire).

⁴ See “Certain Uncoated Groundwood Paper from Canada/Responses to Supplemental Questions on the Injury Volume of the Petition,” dated August 15, 2017 (General Issues Supplemental Response); see also “Certain Uncoated Groundwood Paper from Canada/Petitioner's Responses to Supplemental Questions on the Antidumping Duty Volume of the Petition,” dated August 15, 2017 (AD Supplemental Response).

⁵ See Memorandum, “Phone Call with Counsel to the Petitioner,” dated August 17, 2017 (Scope Phone Call).

⁶ See Letter to the Secretary of Commerce from the petitioner, “Certain Uncoated Groundwood Paper from Canada/Further revisions to the Scope Language,” dated August 21, 2017 (Scope Revision Letter).

In accordance with section 732(b) of the Tariff Act of 1930, as amended (the Act), the petitioner alleges that imports of UGW paper from Canada are being, or are likely to be, sold in the United States at less than fair value (LTFV) within the meaning of section 731 of the Act, and that such imports are materially injuring, or threatening material injury to, the domestic industry producing UGW paper in the United States. Also, consistent with section 732(b)(1) of the Act, the Petition is accompanied by information reasonably available to the petitioner supporting its allegations.

The Department finds that the petitioner filed this Petition on behalf of the domestic industry because the petitioner is an interested party as defined in section 771(9)(C) of the Act. The Department also finds that the petitioner demonstrated sufficient industry support with respect to the initiation of the AD investigation that the petitioner is requesting.⁷

⁷ See the “Determination of Industry Support for the Petition” section, below.

Period of Investigation

Because the Petition was filed on August 9, 2017, the period of investigation (POI) for this investigation is July 1, 2016, through June 30, 2017.

Scope of the Investigation

The product covered by this investigation is UGW paper from Canada. For a full description of the scope of this investigation, see the “Scope of the Investigation,” in the Appendix to this notice.

Comments on Scope of the Investigation

During our review of the Petition, the Department issued questions to, and received responses from, the petitioner pertaining to the proposed scope to ensure that the scope language in the Petition would be an accurate reflection of the products for which the domestic industry is seeking relief.⁸

⁸ See General Issues Supplemental Questionnaire; see also General Issues Supplemental Response, Scope Phone Call, and Scope Revision Letter.

As discussed in the preamble to the Department's regulations, we are setting aside a period for interested parties to raise issues regarding product coverage (scope).⁹ The Department will consider all comments received from interested parties and, if necessary, will consult with interested parties prior to the issuance of the preliminary determinations. If scope comments include factual information,¹⁰ all such factual information should be limited to public information. To facilitate preparation of its questionnaires, the Department requests all interested parties to submit such comments by 5:00 p.m. Eastern Time (ET) on Monday, September 18, 2017, which is 20 calendar days from the signature date of this notice. Any rebuttal comments, which may include factual information, must be filed by 5:00 p.m. ET on Thursday, September 28, 2017, which is 10 calendar days from the initial comments deadline.¹¹

⁹ See Antidumping Duties; Countervailing Duties, Final Rule, 62 FR 27296, 27323 (May 19, 1997).

¹⁰ See 19 CFR 351.102(b)(21) (defining “factual information”).

¹¹ See 19 CFR 351.303(b).

The Department requests that any factual information the parties consider relevant to the scope of the investigation be submitted during this time period. However, if a party subsequently finds that additional factual information pertaining to the scope of the investigation may be relevant, the party may contact the Department and request permission to submit the additional information. All such comments must be filed on the records of the concurrent AD and CVD investigations.

Filing Requirements

All submissions to the Department must be filed electronically using Enforcement and Compliance's Antidumping Duty and Countervailing Duty Centralized Electronic Service System (ACCESS).¹² An electronically filed document must be received successfully in its entirety by the time and date it is due. Documents exempted from the electronic submission requirements must be filed manually (i.e., in paper form) with Enforcement and Compliance's APO/Dockets Unit, Room 18022, U.S. Department of Commerce, 1401 Constitution Avenue NW., Washington, DC 20230, and stamped with the date and time of receipt by the applicable deadlines.

¹² See Antidumping and Countervailing Duty Proceedings: Electronic Filing Procedures; Administrative Protective Order Procedures, 76 FR 39263 (July 6, 2011); see also Enforcement and Compliance; Change of Electronic Filing System Name, 79 FR 69046 (November 20, 2014) for details of the Department's electronic filing requirements, which went into effect on August 5, 2011. Information on help using ACCESS can be found at https://access.trade.gov/help.aspx and a handbook can be found at https://access.trade.gov/help/Handbook%20on%20Electronic%20Filling%20Procedures.pdf.

Comments on Product Characteristics for AD Questionnaires

The Department will provide interested parties an opportunity to comment on the appropriate physical characteristics of UGW paper to be reported in response to the Department's AD questionnaire. This information will be used to identify the key physical characteristics of the merchandise under consideration in order to report the relevant costs of production accurately as well as to develop appropriate product-comparison criteria.

Interested parties may provide any information or comments that they feel are relevant to the development of an accurate list of physical characteristics. Specifically, they may provide comments as to which characteristics are appropriate to use as: (1) General product characteristics and (2) product-comparison criteria. We note that it is not always appropriate to use all product characteristics as product-comparison criteria. We base product-comparison criteria on meaningful commercial differences among products. In other words, although there may be some physical product characteristics utilized by manufacturers to describe UGW paper, it may be that only a select few product characteristics take into account commercially meaningful physical characteristics. In addition, interested parties may comment on the order in which the physical characteristics should be used in matching products. Generally, the Department attempts to list the most important physical characteristics first and the least important characteristics last.

In order to consider the suggestions of interested parties in developing and issuing the AD questionnaires, all product characteristics comments must be filed by 5:00 p.m. ET on September 18, 2017. Any rebuttal comments must be filed by 5:00 p.m. ET on September 28, 2017. All comments and submissions to the Department must be filed electronically using ACCESS, as explained above, on the record of this LTFV investigation.

Determination of Industry Support for the Petition

Section 732(b)(1) of the Act requires that a petition be filed on behalf of the domestic industry. Section 732(c)(4)(A) of the Act provides that a petition meets this requirement if the domestic producers or workers who support the petition account for: (i) At least 25 percent of the total production of the domestic like product; and (ii) more than 50 percent of the production of the domestic like product produced by that portion of the industry expressing support for, or opposition to, the petition. Moreover, section 732(c)(4)(D) of the Act provides that, if the petition does not establish support of domestic producers or workers accounting for more than 50 percent of the total production of the domestic like product, the Department shall: (i) Poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs the Department to look to producers and workers who produce the domestic like product. The International Trade Commission (ITC), which is responsible for determining whether “the domestic industry” has been injured, must also determine what constitutes a domestic like product in order to define the industry. While both the Department and the ITC must apply the same statutory definition regarding the domestic like product,¹³ they do so for different purposes and pursuant to a separate and distinct authority. In addition, the Department's determination is subject to limitations of time and information. Although this may result in different definitions of the like product, such differences do not render the decision of either agency contrary to law.¹⁴

¹³ See section 771(10) of the Act.

¹⁴ See USEC, Inc. v. United States, 132 F. Supp. 2d 1, 8 (CIT 2001) (citing Algoma Steel Corp., Ltd. v. United States, 688 F. Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the Petition).

With regard to the domestic like product, the petitioner does not offer a definition of the domestic like product distinct from the scope of the investigation. Based on our analysis of the information submitted on the record, we have determined that UGW paper, as defined in the scope, constitutes a single domestic like product and we have analyzed industry support in terms of that domestic like product.¹⁵

¹⁵ For a discussion of the domestic like product analysis as applied to this case, see Antidumping Duty Investigation Initiation Checklist: Certain Uncoated Groundwood Paper from Canada (AD Initiation Checklist), at Attachment II, Analysis of Industry Support for the Petitions Covering Certain Uncoated Groundwood Paper from Canada (Attachment II). This checklist is dated concurrently with this notice and on file electronically via ACCESS. Access to documents filed via ACCESS is also available in the Central Records Unit (CRU), Room B8024 of the main Department of Commerce building.

Based on information provided in the Petition, the share of total estimated U.S. production of the domestic like product in calendar year 2016 represented by the petitioner did not account for more than 50 percent of the total production of the domestic like product. Therefore, in accordance with section 732(c)(4)(D) of the Act, we polled the industry.¹⁶

¹⁶ Id.

On August 10, 2017, we issued polling questionnaires to all known producers of UGW paper identified in the Petition.¹⁷ We requested that each company complete the polling questionnaire and certify its response by the due date specified in the cover letter to the questionnaire.¹⁸ On August 23, 2017, in consultations with the Department held with respect to the companion CVD petition on imports of UGW paper from Canada, the Government of Canada (GOC) provided comments on industry support.¹⁹

¹⁷ See Volume I of the Petition, at Exhibit I-5; see also Memorandum, “Certain Uncoated Groundwood Paper from Canada: Polling Questionnaire,” dated August 14, 2017.

¹⁸ For a detailed discussion of the responses received, see AD Initiation Checklist, at Attachment II. The polling questionnaire and questionnaire responses are on file electronically via ACCESS and can also be accessed through the CRU.

¹⁹ See Memorandum, “Countervailing Duty Petition on Certain Uncoated Groundwood Paper from Canada: GOC Consultations,” dated August 24, 2017; and letter from the GOC re: “Uncoated Groundwood Paper from Canada: Submission of Consultations Paper,” dated August 25, 2017. For a discussion of the GOC's comments, see the AD Initiation Checklist, at Attachment II.

Section 732(c)(4)(B) of the Act states that (i) the Department “shall disregard the position of domestic producers who oppose the petition if such producers are related to foreign producers, as defined in section 771(4)(B)(ii), unless such domestic producers demonstrate that their interests as domestic producers would be adversely affected by the imposition of an antidumping duty order;” and (ii) the Department “may disregard the position of domestic producers of a domestic like product who are importers of the subject merchandise.” In addition, 19 CFR 351.203(e)(4) states that the position of a domestic producer that opposes the petition (i) will be disregarded if such producer is related to a foreign producer or to a foreign exporter under section 771(4)(B)(ii) of the Act, unless such domestic producer demonstrates to the Secretary's satisfaction that its interests as a domestic producer would be adversely affected by the imposition of an antidumping order; and (ii) may be disregarded if the producer is an importer of the subject merchandise or is related to such an importer under section 771(4)(B)(ii) of the Act.

We received objection to the Petition from those that produce domestic like product and are related to a foreign producer of subject merchandise and/or who imported subject merchandise from Canada. We have analyzed the information provided in the polling questionnaire responses and information provided in other submissions to the Department. Based on our analysis, we disregarded the position in opposition to the petition pursuant to section 732(c)(4)(B) of the Act. When the position in opposition to the petition is disregarded, the industry support requirements of section 732(c)(4)(A) of the Act are satisified.²⁰

²⁰ See AD Initiation Checklist, at Attachment II.

The data collected demonstrate that the domestic producers of UGW paper which support the Petition account for at least 25 percent of the total production of the domestic like product and, once the opposition is disregarded, account for more than 50 percent of the production of the domestic like product produced by that portion of the industry expressing support for, or opposition to, the Petition.²¹ Therefore, the Department determines that the petitioner filed this Petition on behalf of the domestic industry in accordance with section 732(b)(1) of the Act because it is an interested party as defined in section 771(9)(C) of the Act and it has demonstrated sufficient industry support with respect to the AD investigation that it is requesting the Department initiate.²²

²¹ Id.

²² Id.

Allegations and Evidence of Material Injury and Causation

The petitioner alleges that the U.S. industry producing the domestic like product is being materially injured, or is threatened with material injury, by reason of the imports of the subject merchandise sold at less than normal value (NV). In addition, the petitioner alleges that subject imports exceed the negligibility threshold provided for under section 771(24)(A) of the Act.²³

²³ See Volume I of the Petition, at 19 and Exhibit I-12.

The petitioner contends that the industry's injured condition is illustrated by a significant volume of subject imports and significant increase in the volume of subject imports relative to U.S. consumption; reduced market share; underselling and price suppression or depression; lost sales and revenues; adverse effects on production, capacity utilization, U.S. shipments, and employment; declines in financial performance; and capacity closures and conversions.²⁴ We have assessed the allegations and supporting evidence regarding material injury, threat of material injury, and causation, and we have determined that these allegations are properly supported by adequate evidence and meet the statutory requirements for initiation.²⁵

²⁴ Id., at 17-28, Exhibit I-3, Exhibit I-6, and Exhibits I-11 through I-17.

²⁵ See AD Initiation Checklist, at Attachment III, Analysis of Allegations and Evidence of Material Injury and Causation for the Antidumping and Countervailing Duty Petitions Covering Certain Uncoated Groundwood Paper from Canada.

Allegation of Sales at Less Than Fair Value

The following is a description of the allegation of sales at LTFV upon which the Department based its decision to initiate the AD investigation of imports of UGW paper from Canada. The sources of data for the deductions and adjustments relating to U.S. price and NV are discussed in greater detail in the AD Initiation Checklist.

Export Price

The petitioner based the U.S. price on export price (EP) using pricing information related to UGW paper produced in, and exported from, Canada, and sold or offered for sale in the United States. This information was obtained from a confidential source.²⁶ Where applicable, the petitioner made deductions from U.S. price for movement expenses, consistent with the terms of sale.²⁷

²⁶ See Volume III of the Petition at Exhibits III-7 and III-8; and AD Initiation Checklist.

²⁷ See AD Initiation Checklist.

Normal Value

Petitioner based NV on pricing information relating to UGW paper produced in, and sold or offered for sale in Canada, that was obtained through confidential market research.²⁸ Where applicable, the petitioner made deductions for movement expenses, consistent with the terms of sale.²⁹

²⁸ Id.

²⁹ Id.

Fair Value Comparisons

Based on the data provided by the petitioner, there is reason to believe that imports of UGW paper from Canada are being, or are likely to be, sold in the United States at LTFV. Based on comparisons of EP to NV in accordance with sections 772 and 773 of the Act, the estimated dumping margins for UGW paper from Canada covered by this initiation range from 23.45 percent to 54.97 percent.³⁰

³⁰ Id.

Initiation of Less-Than-Fair-Value Investigation

Based upon the examination of the Petition, we find that the Petition meets the requirements of section 732 of the Act. Therefore, we are initiating an AD investigation to determine whether imports of UGW paper from Canada are being, or are likely to be, sold in the United States at LTFV. In accordance with section 733(b)(1)(A) of the Act and 19 CFR 351.205(b)(1), unless postponed, we will make our preliminary determination no later than 140 days after the date of this initiation.

Under the Trade Preferences Extension Act of 2015, numerous amendments to the AD and CVD law were made.³¹ The 2015 law does not specify dates of application for those amendments. On August 6, 2015, the Department published an interpretative rule, in which it announced the applicability dates for each amendment to the Act, except for amendments contained in section 771(7) of the Act, which relate to determinations of material injury by the ITC.³² The amendments to sections 771(15), 773, 776, and 782 of the Act are applicable to all determinations made on or after August 6, 2015, and, therefore, apply to this AD investigation.³³

³¹ See Trade Preferences Extension Act of 2015, Pub. L. 114-27, 129 Stat. 362 (2015).

³² See Dates of Application of Amendments to the Antidumping and Countervailing Duty Laws Made by the Trade Preferences Extension Act of 2015, 80 FR 46793 (August 6, 2015).

³³ Id. at 46794-95. The 2015 amendments may be found at https://www.congress.gov/bill/114th-congress/house-bill/1295/text/pl.

Respondent Selection

The petitioner named eight companies in Canada as producers/exporters of UGW paper.³⁴ Following standard practice in AD investigations involving market economy countries, in the event the Department determines that the number of companies in Canada is large, the Department intends to review U.S. Customs and Border Protection (CBP) data for U.S. imports of UGW paper during the POI under the appropriate Harmonized Tariff Schedule of the United States subheadings, and if it determines that it cannot individually examine each company based upon the Department's resources, then the Department will select respondents based on those data. We intend to release the CBP data under Administrative Protective Order (APO) to all parties with access to information protected by APO within five business days of the announcement of the initiation of this investigation. Interested parties must submit applications for disclosure under APO in accordance with 19 CFR 351.305(b). Instructions for filing such applications may be found on the Department's Web site at http://enforcement.trade.gov/apo. Interested parties may submit comments regarding the CBP data and respondent selection by 5:00 p.m. ET three calendar days after publication. The Department will not accept rebuttal comments regarding the CBP data or respondent selection. Comments must be filed electronically using ACCESS. An electronically-filed document must be received successfully, in its entirety, by ACCESS no later than 5:00 p.m. ET by the dates noted above. We intend to make our decision regarding respondent selection in this investigation within 20 days of publication of this notice.

³⁴ See Volume I of the Petition at Exhibit I-9.

Distribution of Copies of the Petition

In accordance with section 732(b)(3)(A)(i) of the Act and 19 CFR 351.202(f), copies of the public version of the Petition have been provided to the GOC via ACCESS. To the extent practicable, we will attempt to provide a copy of the public version of the Petition to each exporter named in the Petition, as provided under 19 CFR 351.203(c)(2).

ITC Notification

We will notify the ITC of our initiation, as required by section 732(d) of the Act.

Preliminary Determination by the ITC

The ITC will preliminarily determine, within 45 days after the date on which the Petition was filed, whether there is a reasonable indication that imports of UGW paper from Canada are materially injuring or threatening material injury to a U.S. industry. A negative ITC determination will result in the investigation being terminated.³⁵ Otherwise, the investigation will proceed according to statutory and regulatory time limits.

³⁵ See section 733(a) of the Act.

Submission of Factual Information

Factual information is defined in 19 CFR 351.102(b)(21) as: (i) Evidence submitted in response to questionnaires; (ii) evidence submitted in support of allegations; (iii) publicly available information to value factors under 19 CFR 351.408(c) or to measure the adequacy of remuneration under 19 CFR 351.511(a)(2); (iv) evidence placed on the record by the Department; and (v) evidence other than factual information described in (i)-(iv). 19 CFR 351.301(b) requires any party, when submitting factual information, to specify under which subsection of 19 CFR 351.102(b)(21) the information is being submitted ³⁶ and, if the information is submitted to rebut, clarify, or correct factual information already on the record, to provide an explanation identifying the information already on the record that the factual information seeks to rebut, clarify, or correct.³⁷ Time limits for the submission of factual information are addressed in 19 CFR 351.301, which provides specific time limits based on the type of factual information being submitted. Interested parties should review the regulations prior to submitting factual information in this investigation.

³⁶ See 19 CFR 351.301(b).

³⁷ See 19 CFR 351.301(b)(2).

Extensions of Time Limits

Parties may request an extension of time limits before the expiration of a time limit established under 19 CFR 351.301, or as otherwise specified by the Secretary. In general, an extension request will be considered untimely if it is filed after the expiration of the time limit established under 19 CFR 351.301. For submissions that are due from multiple parties simultaneously, an extension request will be considered untimely if it is filed after 10:00 a.m. ET on the due date. Under certain circumstances, we may elect to specify a different time limit by which extension requests will be considered untimely for submissions which are due from multiple parties simultaneously. In such a case, we will inform parties in the letter or memorandum setting forth the deadline (including a specified time) by which extension requests must be filed to be considered timely. An extension request must be made in a separate, stand-alone submission; under limited circumstances we will grant untimely-filed requests for the extension of time limits. Parties should review Extension of Time Limits; Final Rule, 78 FR 57790 (September 20, 2013), available at http://www.gpo.gov/fdsys/pkg/FR-2013-09-20/html/2013-22853.htm, prior to submitting factual information in this investigation.

Certification Requirements

Any party submitting factual information in an AD or CVD proceeding must certify to the accuracy and completeness of that information.³⁸ Parties are hereby reminded that revised certification requirements are in effect for company/government officials, as well as their representatives. Investigations initiated on the basis of petitions filed on or after August 16, 2013, and other segments of any AD or CVD proceedings initiated on or after August 16, 2013, should use the formats for the revised certifications provided at the end of the Final Rule.³⁹ The Department intends to reject factual submissions if the submitting party does not comply with applicable revised certification requirements.

³⁸ See section 782(b) of the Act.

³⁹ See Certification of Factual Information to Import Administration during Antidumping and Countervailing Duty Proceedings, 78 FR 42678 (July 17, 2013) (Final Rule); see also frequently asked questions regarding the Final Rule, available at http://enforcement.trade.gov/tlei/notices/factual_info_final_rule_FAQ_07172013.pdf.

Notification to Interested Parties

Interested parties must submit applications for disclosure under APO in accordance with 19 CFR 351.305. On January 22, 2008, the Department published Antidumping and Countervailing Duty Proceedings: Documents Submission Procedures; APO Procedures, 73 FR 3634 (January 22, 2008). Parties wishing to participate in this investigation should ensure that they meet the requirements of these procedures (e.g., the filing of letters of appearance as discussed at 19 CFR 351.103(d)).

This notice is issued and published pursuant to sections 732(c)(2) and 777(i) of the Act, and 19 CFR 351.203(c).

Dated: August 29, 2017.
Gary Taverman,
Deputy Assistant Secretary for Antidumping and Countervailing Duty Operations, performing the non-exclusive functions and duties of the Assistant Secretary for Enforcement and Compliance.

Appendix—Scope of the Investigation

The merchandise covered by this investigation includes certain paper that has not been coated on either side and with 50 percent or more of the cellulose fiber content consisting of groundwood pulp, including groundwood pulp made from recycled paper, weighing not more than 90 grams per square meter. Groundwood pulp includes all forms of pulp produced from a mechanical pulping process, such as thermo-mechanical process (TMP), chemi-thermo mechanical process (CTMP), bleached chemi-thermo mechanical process (BCTMP) or any other mechanical pulping process. The scope includes paper shipped in any form, including but not limited to both rolls and sheets.

Certain uncoated groundwood paper includes but is not limited to standard newsprint, high bright newsprint, book publishing, directory, and printing and writing papers. The scope includes paper that is white, off-white, cream, or colored.

Specifically excluded from the scope are imports of certain uncoated groundwood paper printed with final content of printed text or graphic. Also excluded are papers that otherwise meet this definition, but which have undergone a supercalendering process.⁴⁰

⁴⁰ Supercalendering imparts a glossy finish produced by the movement of the paper web through a supercalender which is a stack of alternating rollers of metal and cotton (or other softer material). The supercalender runs at high speed and applies pressure, heat, and friction which glazes the surface of the paper, imparting gloss to the surface and increasing the paper's smoothness and density.

Certain uncoated groundwood paper is classifiable in the Harmonized Tariff Schedule of the United States (HTSUS) in several subheadings, including 4801.00.0120, 4801.00.0140, 4802.61.1000, 4802.61.2000, 4802.61.3110, 4802.61.3191, 4802.61.6040, 4802.62.1000, 4802.62.2000, 4802.62.3000, 4802.62.6140, 4802.69.1000, 4802.69.2000, and 4802.69.3000. Subject merchandise may also be imported under several additional subheadings including 4805.91.5000, 4805.91.7000, and 4805.91.9000. Although the HTSUS subheadings are provided for convenience and customs purposes, the written description of the merchandise is dispositive.

[FR Doc. 2017-18726 Filed 8-31-17; 8:45 am]

BILLING CODE 3510-DS-P